DEPARTMENT OF ENERGY

Federal Energy Regulatory Commission

[Docket No. EL05-131-000, et al.]

City of Anaheim, California, et al.; Electric Rate and Corporate Filings

July 5, 2005.

The following filings have been made with the Commission. The filings are listed in ascending order within each docket classification.

1. City of Anaheim, California

[Docket No. EL05-131-000]

Take notice that on June 24, 2005, the City of Anaheim, California (Anaheim), pursuant to Rules 207 and 205 of the Commission's Rules of Practice and Procedures petitions for a declaratory order by the Commission: (1) Approving Anaheim's High Voltage Base Transmission Revenue Requirement as revised, (2) waiving the sixty-day notice requirement; (3) waiving the filing fee associated with this petition; and (4) granting any other relief or waivers necessary or appropriate for approval and implementation of Anaheim's revised transmission revenue requirement effective as of July 1, 2005.

Comment Date: 5 p.m. Eastern Time on July 15, 2005.

2. Southwest Power Pool, Inc.

[Docket Nos. RT04-1-011 and ER04-48-011]

Take notice that on June 28, 2005, Southwest Power Pool, Inc. (SPP) submitted a modification to the May 13, 2005 compliance filing it submitted to the Commission pursuant to February 11, 2005 Order in the above proceedings. SPP request an effective date of May 13, 2005.

SPP states that it has served a copy of this filing upon each of the parties to these proceedings.

Comment Date: 5 p.m. Eastern Time on July 19, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3758 Filed 7-14-05; 8:45 am]

BILLING CODE 6717-01-P